DEPARTMENT OF COMMERCE

National Oceanic and Atmospheric Administration

[I.D. 042400F]

Western Pacific Fishery Management Council; Public Meeting

AGENCY: National Marine Fisheries Service (NMFS), National Oceanic and Atmospheric Administration (NOAA), Commerce.

ACTION: Notice of public meeting.

SUMMARY: The Western Pacific Fishery Council will hold its 74th Scientific and Statistical Committee (SSC) meeting.

DATES: The meeting will be held May 16-18, 2000. See SUPPLEMENTARY INFORMATION for specific dates and times.

ADDRESSES: The 74th SSC meeting will be held at the Western Pacific Fishery Management Council office conference room, 1164 Bishop St., Suite 1400, Honolulu, Hawaii; telephone: (808-522-8220).

Council address: Western Pacific Fishery Management Council, 1164 Bishop St., Suite 1400, Honolulu, HI, 96813.

FOR FURTHER INFORMATION CONTACT: Kitty M. Simonds, Executive Director; telephone 808-522-8220.

SUPPLEMENTARY INFORMATION:

Meeting Dates, Times and Agenda

The SSC will discuss and may make recommendations to the Council on the agenda items below. The order in which agenda items will be addressed can change.

Tuesday, May 16, 2000, 9 a.m.

1. Sustainable Fisheries Act amendment revisions

A. Bycatch (bottomfish, pelagics)

B. Overfishing (bottomfish, crustaceans, pelagics)

2. Ecosystems and habitat (coral reefs)

A. Draft Coral Reef Ecosystem Fishery Management Plan (FMP)/Preliminary Draft Environmental Impact Statement (EIS)

B. Federal and state initiatives and research plans

(1) Federal agencies (NMFS, Fish and Wildlife Service)

(2) Islands (American Samoa, Guam, Hawaii, Northern Mariana Islands (NMI))

(3) Congressional coral reef bills

(4) U.S. Coral Reef Task Force National Action Plan

C. Advisory body recommendations

(1) Coral Reef Ecosystem Plan Team (PT)

(2) Ecosystem & Habitat Advisory Panel (AP)

(3) Bottomfish PT/AP

(4) Crustaceans PT/AP

(5) Precious Corals PT/AP

(6) Native & Indigenous Rights AP

Wednesday, May 17, 2000, 8:30 a.m.

1. Pelagic FMP issues

A. 1st quarter 2000 Hawaii and American Samoa longline fishery report

B. American Samoa framework measure

C. Shark management

(1) Shark catch and disposition in 1st quarter 2000 in Hawaii longline fishery

(2) Blue shark stock assessment

(3) Pelagics FMP amendment for shark management

D. Seabird management: status of amendment

E. Turtle management

(1) Outcome of review of time/area closures

(2) Status of lawsuit

F. International: Outcome of 6th Multilateral High Level Conference (MHLC6)

G. Recreational Fisheries Data Task Force: Survey of small-vessel pelagics fisheries production in Hawaii

H. Pelagics AP recommendations

I. Pelagics PT recommendations

Thursday, May 18, 2000, 8:30 a.m.

1. Precious corals fishery

A. Status of framework amendment

B. Stock monitoring

2. Status of the Bottomfish, Crustaceans and Precious Corals EISs

3. Status of amendment to add NMI and Pacific Remote Insular Areas to FMPs

4. Crustaceans FMP issues

A. 1999 Annual Report

B. Status of the fishery/stock assessment strategy

C. Discards and high-grading: economic and biological review

D. Consideration of amendment to replace lobster assessment model

E. Research plans

F. Possible additions to Crustaceans Management Unit Species

G. Crustaceans PT/AP recommendations

5. Bottomfish FMP issues

A. Annual report

B. Research plans

C. Mau Zone new entry criteria

D. Bottomfish PT recommendations

6. Other business

Although non-emergency issues not contained in this agenda may come before the Council for discussion, in accordance with the Magnuson-Stevens Fishery Conservation and Management Act, these issues may not be the subject of formal Council action during this meeting. Council action will be restricted to those issues specifically listed in this notice and any issues arising after publication of this notice that require emergency action under section 305(c) of the Magnuson-Stevens Fishery Conservation and Management Act, provided the public has been notified of the Council's intent to take final actions to address such emergencies.

Special Accommodations

This meeting is physically accessible to people with disabilities. Requests for sign language interpretation or other auxiliary aids should be directed to Kitty M. Simonds, 808-522-8220 (voice) or 808-522-8226 (fax) at the Council (see ADDRESSES) at least 5 days prior to the meeting date.

Dated: April 24, 2000.
Richard W. Surdi,
Acting Director, Office of Sustainable Fisheries, National Marine Fisheries Service.

[FR Doc. 00-10688 Filed 4-28-00; 8:45 am]

BILLING CODE 3510-22-F